DEPARTMENT OF TRANSPORTATION

Federal Aviation Administration

14 CFR Part 39

[Docket No. FAA-2013-0465; Directorate Identifier 2012-NM-085-AD; Amendment 39-17617; AD 2013-20-11]

RIN 2120-AA64

Airworthiness Directives; Airbus Airplanes

AGENCY: Federal Aviation Administration (FAA), Department of Transportation (DOT).

ACTION: Final rule.

SUMMARY: We are adopting a new airworthiness directive (AD) for all Airbus Model A318, A319, A320, and A321 series airplanes. This AD was prompted by a determination that oxygen generators installed on a certain batch of passenger emergency oxygen container assemblies might become detached by extreme pulling of the mask tube at the end of the oxygen supply causing a high temperature oxygen generator and mask to fall down. This AD requires modifying the passenger emergency oxygen container assembly. We are issuing this AD to prevent a high temperature oxygen generator and mask from falling down and possibly resulting in an ignition source in the passenger compartment, injury to passengers, and reduced availability of supplemental oxygen.

DATES: This AD becomes effective December 2, 2013.

The Director of the Federal Register approved the incorporation by reference of certain publications listed in this AD as of December 2, 2013.

ADDRESSES: You may examine the AD on the Internet at http://www.regulations.gov/#!docketDetail;D=FAA-2013-0465; or in person at the U.S. Department of Transportation, Docket Operations, M-30, West Building Ground Floor, Room W12-140, 1200 New Jersey Avenue SE., Washington, DC.

For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com. You may review copies of the referenced service information at the FAA, Transport Airplane Directorate, 1601 Lind Avenue SW., Renton, WA. For information on the availability of this material at the FAA, call 425-227-1221.

FOR FURTHER INFORMATION CONTACT: Sanjay Ralhan, Aerospace Engineer, International Branch, ANM-116, Transport Airplane Directorate, FAA, 1601 Lind Avenue SW., Renton, WA 98057-3356; telephone (425) 227-1405; fax (425) 227-1149.

SUPPLEMENTARY INFORMATION:

Discussion

We issued a notice of proposed rulemaking (NPRM) to amend 14 CFR part 39 to include an AD that would apply to the specified products. The NPRM published in the Federal Register on July 3, 2013 (78 FR 40074). The NPRM proposed to correct an unsafe condition for the specified products.

The European Aviation Safety Agency (EASA), which is the Technical Agent for the Member States of the European Community, has issued EASA Airworthiness Directive 2012-0055, dated April 3, 2012 (referred to after this as the Mandatory Continuing Airworthiness Information, or “the MCAI”), to correct an unsafe condition for the specified products. The MCAI states:

It has been determined that oxygen generators, installed on a specific batch of Type 1 (22 minute) passenger emergency oxygen container assemblies, may become detached by extreme pulling of the mask tube at the end of oxygen supply. Investigations revealed that such detachment can be caused by the increase in temperature towards the end of the generator operation, which may weaken the plastic housing in the attachment area of the bracket.

This condition, if not corrected, could make the rivets slip through the plastic housing, causing a `hot' oxygen generator and mask to fall down, possibly resulting in injury to passengers.

For the reasons described above, this [EASA] AD requires modification of the affected oxygen container assemblies. This [EASA] AD also prohibits the installation of the affected (unmodified) containers on any aeroplane as replacement parts.

The modification consists of adding a reinforcement plate at the rear outside of the container and adding two washers to the rivets at the inside of the container to prevent the generator from detaching. You may examine the MCAI in the AD docket on the Internet at http://www.regulations.gov/#!documentDetail;D=FAA-2013-0465-0002.

Comments

We gave the public the opportunity to participate in developing this AD. We received no comments on the NPRM (78 FR 40074, July 3, 2013) or on the determination of the cost to the public.

Conclusion

We reviewed the available data and determined that air safety and the public interest require adopting this AD as proposed-except for minor editorial changes. We have determined that these minor changes:

• Are consistent with the intent that was proposed in the NPRM (78 FR 40074, July 3, 2013) for correcting the unsafe condition; and

• Do not add any additional burden upon the public than was already proposed in the NPRM (78 FR 40074, July 3, 2013).

Costs of Compliance

We estimate that this AD affects 4 airplanes of U.S. registry.

We estimate the following costs to comply with this AD:

Estimated Costs
Action | Labor cost | Parts cost | Cost per product | Cost on U.S. operators
Modification | 2 work-hours × $85 per hour = $170 | $0 | $170 | $680

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the MCAI in the AD docket on the Internet at http://www.regulations.gov/#!documentDetail;D=FAA-2013-0465-0002; or in person at the Docket Operations office between 9 a.m. and 5 p.m., Monday through Friday, except Federal holidays. The AD docket contains this AD, the MCAI, the regulatory evaluation, any comments received, and other information. The street address for the Docket Operations office (telephone (800) 647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2013-20-11 Airbus: Amendment 39-17617. Docket No. FAA-2013-0465; Directorate Identifier 2012-NM-085-AD.

(a) Effective Date

This airworthiness directive (AD) becomes effective December 2, 2013.

(b) Affected ADs

None.

(c) Applicability

This AD applies to Airbus Model A318-111, -112, -121, and -122 airplanes; Model A319-111, -112, -113, -114, -115, -131, -132, and -133 airplanes; Model A320-111, -211, -212, -214, -231, -232, and -233 airplanes; and Model A321-111, -112, -131, -211, -212, -213, -231, and -232 airplanes; certificated in any category; all manufacturer serial numbers.

(d) Subject

Air Transport Association (ATA) of America Code 35, Oxygen.

(e) Reason

This AD was prompted by a determination that oxygen generators, installed on a certain batch of passenger emergency oxygen container assemblies, might become detached by extreme pulling of the mask tube at the end of the oxygen supply causing a high temperature oxygen generator and mask to fall down. We are issuing this AD to prevent a high temperature oxygen generator and mask from falling down and possibly resulting in an ignition source in the passenger compartment, injury to passengers, and reduced availability of supplemental oxygen.

(f) Compliance

You are responsible for having the actions required by this AD performed within the compliance times specified, unless the actions have already been done.

(g) Oxygen Container Assembly Modification

Except as specified in paragraphs (g)(1), (g)(2), and (g)(3) of this AD, within 5,000 flight cycles, or 7,500 flight hours, or 24 months, whichever occurs first, after the effective date of this AD: Modify each type 1 (22 minute) passenger emergency oxygen container assembly installed on an airplane, having a part number (P/N) listed in paragraph (g)(1)(i) of this AD and a serial number (S/N) listed in paragraph (g)(1)(ii) of this AD, in accordance with the Accomplishment Instructions of Airbus Service Bulletin A320-35-1049, dated June 15, 2011; Airbus Service Bulletin A320-35-1053, dated June 15, 2011; Airbus Service Bulletin A320-35-1054, dated June 15, 2011; Airbus Service Bulletin A320-35-1055, dated June 15, 2011; Airbus Service Bulletin A320-35-1056, dated June 15, 2011; Airbus Service Bulletin A320-35-1057, dated June 15, 2011; or Airbus Service Bulletin A320-35-1058, dated June 15, 2011; as applicable.

(1) An oxygen container that has a part number listed in paragraph (g)(1)(i) of this AD and a serial number as listed in paragraph (g)(1)(ii) of this AD, and that has been modified using the instructions of B/E Aerospace Service Bulletin 1XC22-0100-35-006, is compliant with the modification requirement of paragraph (g) of this AD.

(i) Oxygen container part numbers listed in paragraphs (g)(1)(i)(A) through (g)(1)(i)(D) of this AD, where xxxxx stands for an alphanumerical value.

(A) 13C22Lxxxxx0100.

(B) 13C22Rxxxxx0100.

(C) 14C22Lxxxxx0100.

(D) 14C22Rxxxxx0100.

(ii) Oxygen container serial numbers listed in paragraphs (g)(1)(ii)(A) through (g)(1)(ii)(H) of this AD.

(A) ARBC-0182 to ARBC-9999, inclusive.

(B) ARBD-0000 to ARBD-9999, inclusive.

(C) ARBE-0000 to ARBE-9999, inclusive.

(D) BEBF-0000 to BEBF-9999, inclusive.

(E) BEBH-0000 to BEBH-9999, inclusive.

(F) BEBK-0000 to BEBK-9999, inclusive.

(G) BEBL-0000 to BEBL-9999, inclusive.

(H) BEBM-0000 to BEBM-0454, inclusive.

(2) Airplanes on which Airbus Modification 150704 has not been embodied in production are excluded from the requirements of paragraph (g) of this AD, unless an oxygen container with a part number listed in paragraph (g)(1)(i) of this AD and a serial number listed in paragraph (g)(1)(ii) of this AD is installed.

(3) Airplanes on which Airbus Modification 150704 has been embodied in production and that are not listed by model and manufacturer serial number in Airbus Service Bulletin A320-35-1049, dated June 15, 2011; Airbus Service Bulletin A320-35-1053, dated June 15, 2011; Airbus Service Bulletin A320-35-1054, dated June 15, 2011; Airbus Service Bulletin A320-35-1055, dated June 15, 2011; Airbus Service Bulletin A320-35-1056, dated June 15, 2011; Airbus Service Bulletin A320-35-1057, dated June 15, 2011; or Airbus Service Bulletin A320-35-1058, dated June 15, 2011; as applicable; are excluded from the requirements of paragraph (g) of this AD, unless an oxygen container with a part number listed in paragraph (g)(1)(i) of this AD and a serial number listed in paragraph (g)(1)(ii) of this AD is installed.

Note 1 to paragraph (g) of this AD: The oxygen container assemblies listed in paragraph (g)(1)(i) of this AD and paragraph (g)(1)(ii) of this AD are B/E Aerospace products with the mark “B/E AEROSPACE” on the identification plate.

(h) Parts Installation Limitation

As of the effective date of this AD, no person may install, on any airplane, an oxygen container with a part number listed in paragraph (g)(1)(i) of this AD, and serial number listed in paragraph (g)(1)(ii) of this AD, unless the oxygen container has been modified according to Airbus Service Bulletin A320-35-1049, dated June 15, 2011; Airbus Service Bulletin A320-35-1053, dated June 15, 2011; Airbus Service Bulletin A320-35-1054, dated June 15, 2011; Airbus Service Bulletin A320-35-1055, dated June 15, 2011; Airbus Service Bulletin A320-35-1056, dated June 15, 2011; Airbus Service Bulletin A320-35-1057, dated June 15, 2011; or Airbus Service Bulletin A320-35-1058, dated June 15, 2011; as applicable.

(i) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone (425) 227-1405; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(j) Related Information

Refer to Mandatory Continuing Airworthiness Information European Aviation Safety Agency Airworthiness Directive 2012-0055, dated April 3, 2012, for related information. You may examine the MCAI in the AD docket on the Internet at http://www.regulations.gov/#!documentDetail;D=FAA-2013-0465-0002.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A320-35-1049, dated June 15, 2011.

(ii) Airbus Service Bulletin A320-35-1053, dated June 15, 2011.

(iii) Airbus Service Bulletin A320-35-1054, dated June 15, 2011.

(iv) Airbus Service Bulletin A320-35-1055, dated June 15, 2011.

(v) Airbus Service Bulletin A320-35-1056, dated June 15, 2011.

(vi) Airbus Service Bulletin A320-35-1057, dated June 15, 2011.

(vii) Airbus Service Bulletin A320-35-1058, dated June 15, 2011.

(3) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com.

(4) You may review copies of the service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on September 17, 2013.
Ross Landes,
Acting Manager, Transport Airplane Directorate, Aircraft Certification Service.

[FR Doc. 2013-23909 Filed 10-25-13; 8:45 am]

BILLING CODE 4910-13-P